ENVIRONMENTAL PROTECTION AGENCY

[FRL-6896-6]

Regulatory Reinvention (XL) Pilot Projects

AGENCY: Environmental Protection Agency (EPA).

ACTION: Notice of Availability of Final Project Agreements and Response to comments for the Metropolitan Water Reclamation District of Greater Chicago and the Louisville and Jefferson County Metropolitan Sewer District.

SUMMARY: EPA is announcing the signing of the Project XL Final Project Agreement (FPA) for the Metropolitan Water Reclamation District of Greater Chicago and Louisville and Jefferson County Metropolitan Sewer District.

DATES: The FPA for the Metropolitan Water Reclamation District of Greater Chicago was signed on August 30, 2000 and the FPA for the Louisville and Jefferson County Metropolitan Sewer District was signed on September 28, 2000.

ADDRESSES: To obtain copies or to make inquiries about the Final Project Agreements, Fact Sheets, or public comments received contact the following individuals: Matthew Gluckman, 312-8986-6089, U.S. EPA Region V, 77 West Jackson Boulevard, Chicago, IL 60604 (gluckman.matthew@epa.gov) for the Metropolitan Water Reclamation District of Greater Chicago; and Melinda Mallard-Greene, 404-562-9771, U.S. EPA Region IV, 61 Forsyth Street, SW., Atlanta, Georgia 30303-3104 (mallard.melinda@epa.gov) for the Louisville and Jefferson County Metropolitan Sewer District. In addition, public files on each of the projects are located at each of the EPA regional offices listed. Additional information on Project XL, including documents referenced in this notice, other EPA policy documents related to Project XL, Regional and Headquarters contacts, application information and descriptions of existing XL projects and proposals is available via the Internet at http://www.epa.gov/ProjectXL.

SUPPLEMENTARY INFORMATION: Final Project Agreements are voluntary agreements developed by project sponsors, stakeholders, the State in which the project is located and EPA. Project XL, announced in the Federal Register on May 23, 1995 (60 FR 27282) and November 1, 1995 (60 FR 55569) gives regulated sources the flexibility to develop alternative strategies that will replace or modify specific regulatory requirements on the condition that they produce greater environmental benefits.

EPA announced the availability and requested comments on the Metropolitan Water Reclamation District of Greater Chicago Draft FPA on July 24, 2000 (65 FR 45601) and on the Louisville and Jefferson County Metropolitan Sewer District Draft FPA on August 29, 2000 (65 FR 52427) in the Federal Register. Descriptions of the projects are contained in each of the Federal Register notices. Comments and responses to comments on these projects are available via the Internet at http://www.epa.gov/ProjectXL.

Dated: October 11, 2000.
Elizabeth A. Shaw,
Director, Office of Environmental Policy Innovation.

[FR Doc. 00-28417 Filed 11-3-00; 8:45 am]

BILLING CODE 6560-50-M